FEDERAL COMMUNICATIONS COMMISSION

Sunshine Act Meeting; Deletion of Agenda Item From December 13, 2011 Open Meeting

December 12, 2011.

The following item has been deleted from the list of Agenda items scheduled for consideration at the Tuesday, December 13, 2011, Open Meeting and previously listed in the Commission's Notice of December 6, 2011. This item has been adopted by the Commission.

Item No. | Bureau | Subject
2 | International | Title: Third Report and Analysis of Competitive Market Conditions with Respect to Domestic and International Satellite Communications Services (IB Docket No. 09-16) and Report and Analysis of Competitive Market Conditions with Respect to Domestic and International Satellite Communications Services (IB Docket No. 10-99)
|  | Summary: The Commission will consider the Third Report to the U.S. Congress on the status of competition in domestic and international satellite communications services as required by Section 703 of the Communications Satellite Act of 1962, as amended. The Report covers calendar years 2008, 2009 and 2010.

Federal Communications Commission.
Bulah P. Wheeler,
Deputy Manager, Office of the Secretary, Office of Managing Director.

[FR Doc. 2011-32787 Filed 12-19-11; 4:15 pm]

BILLING CODE 6712-01-P